FEDERAL COMMUNICATIONS COMMISSION

[Report No. 2449]

Petitions for Reconsideration and Clarification of Action in Rulemaking Proceedings

November 1, 2000.

Petitions for Reconsideration and Clarification have been filed in the Commission's rulemaking proceedings listed in this Public Notice and published pursuant to 47 CFR Section 1.429(e). The full text of this document is available for viewing and copying in Room CY-A257, 445 12th Street, SW, Washington, DC or may be purchased from the Commission's copy contractor, ITS, Inc. (202) 857-3800. Oppositions to these petitions must be filed by November 14, 2000. See Section 1.4(b)(1) of the Commission's rules (47 CFR 1.4(b)(1)). Replies to an opposition must be filed within 10 days after the time for filing oppositions have expired.

Subject: Amendment of Section 73.202(b) Table of Allotments, FM Broadcast Stations. (Rangely, Silverton and Ridgway, Colorado) (MM Docket No. 99-151, RM-9559, RM-9932).

Number of Petitions Filed: 1.

Subject: Amendment of Part 15 of the Commission's Rules Regarding Spread Spectrum Devices (ET Docket No. 99-231).

Number of Petitions Filed: 1.

Federal Communications Commission.
Magalie Roman Salas,
Secretary.

[FR Doc. 00-28614 Filed 11-7-00; 8:45 am]

BILLING CODE 6712-01-M